DEPARTMENT OF HOMELAND SECURITY

Federal Emergency Management Agency

[Docket ID FEMA-2016-0002]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: November 16, 2016.
Roy E. Wright,
Deputy Associate Administrator for Insurance and Mitigation, Department of Homeland Security, Federal Emergency Management Agency.

State and county | Location and case No. | Chief executive officer of community | Community map repository | Effective date of modification | Community No.
Arizona:
Maricopa (FEMA Docket No.: B-1640) | City of Peoria (15-09-3165P) | The Honorable Cathy Carlat, Mayor, City of Peoria, 8401 West Monroe Street, Peoria, AZ 85345 | City Hall, 8401 West Monroe Street, Peoria, AZ 85345 | Aug. 26, 2016 | 040050
Maricopa (FEMA Docket No.: B-1622) | Town of Carefree (15-09-2627P) | The Honorable Les Peterson, Mayor, Town of Carefree, 8 Sundial Circle, Carefree, AZ 85377 | Town Council Chambers, 100 Easy Street, Carefree, AZ 85377 | Jun. 16, 2016 | 040126
Mohave (FEMA Docket No.: B-1640) | City of Lake Havasu (15-09-0823P) | The Honorable Mark S. Nexsen, Mayor, City of Lake Havasu, 2330 McCulloch Boulevard North, Lake Havasu City, AZ 86403 | City Hall, 2330 McCulloch Boulevard North, Lake Havasu City, AZ 86403 | Sep. 1, 2016 | 040116
Mohave (FEMA Docket No.: B-1640) | Unincorporated areas of Mohave County (15-09-0823P) | The Honorable Jean Bishop, Chair, Board of Supervisors, Mohave County, 700 West Beale Street, Kingman, AZ 86402 | Mohave County Development Services, Flood Control District, 3250 East Kino Avenue, Kingman, AZ 86409 | Sep. 1, 2016 | 040058
Mohave (FEMA Docket No.: B-1622) | Unincorporated areas of Mohave County (15-09-3028P) | The Honorable Jean Bishop, Chair, Board of Supervisors, Mohave County, 700 West Beale Street, Kingman, AZ 86402 | County Administration Building, 700 West Beale Street, Kingman, AZ 86402 | Jun. 20, 2016 | 040058
Pima (FEMA Docket No.: B-1608) | City of Tucson (15-09-2298P) | The Honorable Jonathan Rothschild, Mayor, City of Tucson, City Hall, 255 West Alameda Street 10th Floor, Tucson, AZ 85701 | Pima County Flood Control District, 210 North Stone Avenue 9th Floor, Tucson, AZ 85701 | Jun. 13, 2016 | 040076
Pima (FEMA Docket No.: B-1622) | City of Tucson (15-09-2996P) | The Honorable Jonathan Rothschild, Mayor, City of Tucson, City Hall, 255 West Alameda Street 10th Floor, Tucson, AZ 85701 | Pima County Flood Control District, 210 North Stone Avenue 9th Floor, Tucson, AZ 85701 | Jul. 26, 2016 | 040076
Pima (FEMA Docket No.: B-1622) | City of Tucson (16-09-0139P) | The Honorable Jonathan Rothschild, Mayor, City of Tucson, City Hall, 255 West Alameda Street 10th Floor, Tucson, AZ 85701 | Planning and Development Services, 201 North Stone Avenue 1st Floor, Tucson, AZ 85701 | Aug. 8, 2016 | 040076
Pima (FEMA Docket No.: B-1622) | Unincorporated areas of Pima County (15-09-2996P) | The Honorable Sharon Bronson, Chair, Board of Supervisors, Pima County, 130 West Congress Street, 11th Floor, Tucson, AZ 85701 | Pima County Flood Control District, 210 North Stone Avenue 9th Floor, Tucson, AZ 85701 | Jul. 26, 2016 | 040073
Pima (FEMA Docket No.: B-1622) | Unincorporated areas of Pima County (15-09-3190P) | The Honorable Sharon Bronson, Chair, Board of Supervisors, Pima County, 130 West Congress Street, 11th Floor, Tucson, AZ 85701 | Pima County Flood Control District, 210 North Stone Avenue 9th Floor, Tucson, AZ 85701 | Jun. 28, 2016 | 040073
Pinal (FEMA Docket No.: B-1622) | Town of Florence (15-09-2494X) | The Honorable Tom J. Rankin, Mayor, Town of Florence, 775 North Main Street, Florence, AZ 85132 | Department of Public Works, 425 East Ruggles Street, Florence, AZ 85132 | Jul. 1, 2016 | 040084
Pinal (FEMA Docket No.: B-1622) | Unincorporated areas of Pinal County (15-09-2494X) | The Honorable Cheryl Chase, Chair, Board of Supervisors, Pinal County, 135 North Pinal Street, Florence, AZ 85132 | Engineering Department, 31 North Pinal Street, Building F, Florence, AZ 85132 | Jul. 1, 2016 | 040077
California:
Alameda (FEMA Docket No.: B-1622) | City of Fremont (15-09-3135P) | The Honorable Bill Harrison, Mayor, City of Fremont, 3300 Capitol Avenue, Fremont, CA 94538 | City Hall, 3300 Capitol Avenue, Fremont, CA 94538 | Jul. 12, 2016 | 065028
Orange (FEMA Docket No.: B-1640) | City of Irvine (16-09-0513P) | The Honorable Steven S. Choi, Ph.D., Mayor, City of Irvine, 1 Civic Center Plaza, Irvine, CA 92606 | City Hall, 1 Civic Center Plaza, Irvine, CA 92606 | Sep. 6, 2016 | 060222
Orange (FEMA Docket No.: B-1640) | City of Lake Forest (16-09-0513P) | The Honorable Andrew Hamilton, Mayor, City of Lake Forest, 25550 Commercentre Drive, Suite 100, Lake Forest, CA 92630 | City Hall, 25550 Commercentre Drive, Suite 100, Lake Forest, CA 92630 | Sep. 6, 2016 | 060759
Orange (FEMA Docket No.: B-1622) | City of San Clemente (16-09-0544P) | The Honorable Bob Baker, Mayor, City of San Clemente, 100 Avenida Presidio, San Clemente, CA 92672 | City Hall, 100 Avenida Presidio, San Clemente, CA 92672 | Jun. 27, 2016 | 060230
Ventura (FEMA Docket No.: B-1622) | City of Simi Valley (15-09-3074P) | The Honorable Bob Huber, Mayor, City of Simi Valley, 2929 Tapo Canyon Road, Simi Valley, CA 93063 | City Hall, 2929 Tapo Canyon Road, Simi Valley, CA 93063 | Jul. 1, 2016 | 060421
Nevada:
Clark (FEMA Docket No.: B-1622) | Unincorporated areas of Clark County (16-09-0518P) | The Honorable Steve Sisolak, Chairman, Board of Supervisors, Clark County, 500 South Grand Central Parkway, 6th Floor, Las Vegas, NV 89106 | Office of the Director of Public Works, 500 South Grand Central Parkway, Las Vegas, NV 89155 | Jun. 20, 2016 | 320003

[FR Doc. 2016-28567 Filed 11-28-16; 8:45 am]

BILLING CODE 9110-12-P